DEPARTMENT OF HOUSING AND URBAN DEVELOPMENT

[Docket No. FR-5130-N-34]

Privacy Act of 1974; Notice of Matching Program Between the United States Department of Housing and Urban Development (HUD) and the United States Department of Agriculture Rural Housing Service (RHS)

AGENCY: Office of the Chief Information Officer, HUD.

ACTION: Notice of a Computer Matching Program between HUD and the Department of Agriculture RHS.

SUMMARY: Pursuant to the Computer Matching and Privacy Protection Act of 1988, as amended, and the Office of Management and Budget's (OMB) Guidance on the statute, HUD is announcing a new matching program involving comparisons between data provided by participants in HUD's assisted housing programs and applicants for RHS's rural housing programs. The matching program will be carried out to identify individuals who are receiving excess or duplicate housing assistance as a result of Hurricanes Katrina and Rita.

The matching program will be accomplished by comparing information from HUD's systems of records known as (1) the Tenant Housing Assistance and Contract Verification Data (HUD/H-11 and (2) the Inventory Management System, previously the Public and Indian Housing Information Center (HUD/PIH-4), with disaster emergency assistance data maintained by RHS Multifamily Programs (MFH) in its system of records known as the Multifamily Information System (MFIS), and Single Family Housing Programs (SFH) in its Dedicated Loan Origination and Servicing System (DLOS) MortgageServ and Unifi record systems for direct loans and grants, and the Guaranteed Loan System (GLS) for guaranteed loans to identify participants who are receiving access to duplicate disaster assistance payments.

DATES: Effective Date: Computer matching is expected to begin November 24, 2008, unless comments are received which will result in a contrary determination, or 40 days after copies of the underlying matching agreement are signed, approved by HUD and RHS Data Integrity Boards, and sent to both Houses of Congress, whichever is later.

Comments Due Date: November 24, 2008.

ADDRESSES: Interested persons are invited to submit comments regarding this notice to the Rules Docket Clerk, Office of General Counsel, Room 10276, Department of Housing and Urban Development, 451 Seventh Street, SW., Washington, DC 20410-0500. Communications should refer to the above docket number and title. Facsimile (FAX) comments are not acceptable. A copy of each communication submitted will be available for public inspection and copying between 8 a.m. and 5 p.m. weekdays at the above address.

FOR FURTHER INFORMATION CONTACT: For the Privacy Act contact Donna Robinson-Staton, Departmental Privacy Act Officer, Department of Housing and Urban Development, 451 Seventh Street, SW., Room 2256, Washington, DC 20410, telephone number (202) 402-8073. A telecommunications device for hearing-and-speech impaired individuals (TTY) is available at 1-800-877-8339 (Federal Information Relay Service).

For further information from recipient agency: Bryan Saddler, Counsel to the Inspector General, Department of Housing and Urban Development, 451 Seventh Street, SW., Room 8260, Washington, DC 20410, (202) 708-1613.

SUPPLEMENTARY INFORMATION: The Computer Matching and Privacy Protection Act (CMPPA) of 1988, an amendment to the Privacy Act of 1974 (5 U.S.C. 552a), OMB's guidance on this statute entitled “Final Guidance Interpreting the Provisions of Public Law 100-503, the CMPPA of 1988” (OMB Guidance), and OMB Circular No. A-130 requires publication of notices of computer matching programs. Appendix I to OMB's Revision of Circular No. A-130, “Transmittal Memorandum No. 4, Management of Federal Information Resources,” prescribes Federal agency responsibilities for maintaining records about individuals. In compliance with the CMPPA and Appendix I to OMB Circular No. A-130, copies of this notice are being provided to the Committee on Government Reform of the House of Representatives, the Committee on Homeland Security and Governmental Affairs of the Senate, and OMB's Office of Information and Regulatory Affairs.

I. Authority

This matching program is being conducted pursuant to the Emergency Supplemental Appropriations to Address Hurricanes in the Gulf of Mexico and Pandemic Influenza, 2006 (Pub. L. 109-148); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); the Quality Housing and Work Responsibility Act of 1998 (42 U.S.C. 1437a(f)); the Inspector General Act of 1978 (5 U.S.C. App. 3); Computer Matching and Privacy Protection Act of 1988 (Pub. L. 100-53); and 65 FR 24732 and 64 FR 54930.

Chapter 9, Title I, of the Emergency Supplemental Appropriations to Address Hurricanes in the Gulf of Mexico and Pandemic Influenza, requires HUD to provide Tenant-Based Rental Assistance only to tenants who received housing assistance prior to the hurricanes and to “those which were homeless or in emergency shelters in the declared disaster area prior to Hurricanes Katrina or Rita.” It also requires, with respect to Community Development Fund assistance, that HUD establish procedures to prevent recipients from receiving any duplication of benefits.

The Stewart B. McKinney Homeless Assistance Amendments Act of 1988 authorizes HUD and housing agencies (HAs) (but not private owners/management agents for subsidized multifamily projects) to request wage and claim information from State Wage Information Collection Agencies (SWICAs) responsible for administering State unemployment laws in order to undertake computer matching of individual's income and eligibility for HUD housing assistance. This Act authorizes HUD to require applicants and participants to sign a consent form authorizing HUD or the HA to request wage and claim information from the SWICAs.

The Inspector General Act authorizes the HUD Inspector General to undertake programs to detect and prevent fraud and abuse in all HUD programs.

RHS, pursuant to section 312 of the Robert T. Stafford Disaster Relief and Emergency Assistance Act (the Stafford Act) 42 U.S.C. 5155, Public Law 93-288, as amended, and 7 CFR part 1951, subpart O, must assure that no person receiving disaster assistance receives unauthorized assistance.

II. Objective To Be Met by the Matching Program

HUD's primary objectives in implementing the computer matching program are: (a) To identify individuals who are receiving housing benefits in excess of those to which they are entitled; and (b) to identify duplicate disaster assistance payments. HUD's Office of General Counsel (OGC) will compare the identity, reported income, family size, address and benefit data of Rural Development's emergency Rental Assistance program contained in MFIS. The comparisons will identify, based on criteria established by HUD-OIG, individuals whose incomes, family size, address, or benefit levels require further verification to determine if they received appropriate levels of Federal assistance.

Similarly, HUD-OIG will compare benefit data of Rural Development's section 502 loan and section 504 loan and grant Natural Disaster/Hurricane programs contained in DLOS and GLS.

Any match (i.e., a “hit”) will be further reviewed by the HUD-OIG to determine whether the recipient was eligible to receive the assistance. Hits shall also be provided to, and further reviewed by, RHA and USDA-OIG to determine whether duplicate assistance was provided.

III. Program Description

In this matching program, tenant-provided information included in HUD's systems of records known as the Tenant Housing Assistance and Contract Verification Data (HUD/H-11), last published at 62 FR 11909 (March 13, 1997), and (2) the Inventory Management System, previously the Public and Indian Housing Information Center (HUD/PIH-4), published in the Federal Register on October 7, 2002, will be compared with RHS's MFIS, DLOS, and GLS “Disaster Assistance” system of records. RHS will provide HUD with records from the MFIS, DLOS, and GLS systems that identify recipients of emergency Rental Assistance and Natural Disaster/Hurricane housing loans and grants and loan guarantees. The notice for this system is contained in the System of Records titled “USDA/Rural Development”, last published in 63 FR 38546 (July 17, 1998), and the disclosure will be made in accordance with routine use “15,” which permits disclosure to another Federal agency “for the purpose of determining compliance with Federal regulations and appropriate servicing actions against those not entitled to program benefits, including possible recovery of improper benefits.” The comparisons will identify, based on criteria established by HUD-OIG, individuals whose incomes, family size, address, or benefit levels require further verification to determine if they received appropriate levels of Federal assistance.

A. Income Verification Procedures

Any match (i.e., a “hit”) will be further reviewed by the HUD-OIG to determine whether the recipient was eligible to receive the assistance. Hits shall also be provided to, and further reviewed by, RHA and USDA-OIG to determine whether duplicate assistance was provided.

In order to protect any individuals whose records are used in matching, the HA or subsidized multifamily project owner or management agent will not suspend, terminate, reduce, or make a final denial of any housing assistance to such individual, or take other adverse action against such individual as a result of information produced by such matching program, until an officer or employee of such agency has independently verified such information. This independent verification includes: (1) Comparing automated tenant data with manual files to verify tenant identity, family composition and reported income; (2) verifying the tenants' income by sending HUD prepared income confirmations to employers for cases where records indicate unreported or under-reported income; (3) analyzing the confirmed information; (4) calculating the unreported income and excessive housing assistance received by the family; (5) determining whether the individual actually has or had access to such income for the individual's own use; and (6) determining the period or periods when the individual actually had such income.

B. Administrative or Legal Actions

HUD-OIG shall also provide reports to RHS and/or USDA-OIG for reasons of information verification concerning excess and/or duplicate housing assistance payments. Upon completion of the verification procedures, cases may be referred to Federal, state or local law enforcement authorities (including HUD-OIG and USDA-OIG) for consideration of criminal or civil prosecution. Cases that are not referred for—or after referral are rejected for—criminal or civil prosecution, may be referred to HAs, multifamily project owners or management agents to initiate administrative actions according to applicable procedures.

A HA, project owner or management agent may not suspend, terminate, reduce, or make a final denial of any housing assistance to any individual or take other adverse action against such individual as a result of information produced by a matching program: (1) Unless the individual has received a statement of the findings, including notice to the individual of the opportunity to contest such findings; and (2) until the expiration of a 30 calendar-day period from the date of the notice in (1).

If the matching subject responds within the 30 calendar-day notice period and indicates acceptance of the validity of the adverse information, immediate action to reduce or terminate benefits may be taken.

IV. Records To Be Matched

A description of the tenant records (one record for each family member) includes these data elements: (1) SSNs for each family member; (2) family control number to identify each tenant with a particular family; (3) Head of Household Indicator; (4) Last Name, First Name, Middle Initial, and Address for household; (5) Sex; (6) Birth Date; (7) Reported Income by source, description and amount; (8) Program Code; and (9) Recertification Date.

DLOS and GLS systems records (one record for each loan/grant) includes these data elements: (1) Account number for each loan/grant; (2) SSNs for each borrower/co-borrower (Borrower ID—primary/secondary); (3) Last Name, First Name, Middle Initial, and Property Address for loan/grant; (5) Sex; (6) Program Title; (7) Date of the Obligation, amount, and unpaid balance; (8) Age of borrower/co-borrower; (9) Date of Application; (10) Date of Approval; and (11) Program Type Code.

For matched applicants (i.e., “hits”), HUD-OIG will match the following information from MFIS, DLOS and GLS: name(s), address(es), social security number(s), assistance date(s), and rental/loan/grant assistance amount(s).

V. Period of the Match

This agreement shall become effective 30 days after publication of a computer matching notice in the Federal Register, or 40 days after the agreement is signed by both Data Integrity Boards and has been transmitted to Congress and the OMB for review, whichever is later. This agreement will terminate when the purpose of the computer match is accomplished, or 18 months from the date this signed agreement is sent to both Houses of Congress and OMB, whichever comes first. Should the purpose not be accomplished within 18 months, the agreement may be extended for one 12-month period, with the mutual agreement of all involved parties, if within three months of the expiration date, the respective Data Integrity Boards review the agreement and find that the program will be conducted without change, find a continued favorable examination of cost/benefit results, and all involved parties certify that the program has been conducted in compliance with this agreement. This agreement may be terminated, prior to accomplishment of the computer matching purpose or 18 months from the date this signed agreement is sent to both Houses of Congress and OMB (whichever comes first), by the mutual agreement of all involved parties, with 30 days written notice.

Authority: 5 U.S.C. 552a; 88 Stat. 1986; 42 U.S.C. 3535(d).

Dated: October 16, 2008.
Lisa Schlosser,
Chief Information Officer.

[FR Doc. E8-25267 Filed 10-22-08; 8:45 am]

BILLING CODE 4210-67-P